DEPARTMENT OF ENERGY

Federal Energy Regulatory Commission

[Docket No. EL10-22-000]

Tres Amigas LLC; Notice of Filing

December 9, 2009.

Take notice that on December 8, 2009, Tres Amigas LLC filed a petition for disclaimer of jurisdiction, pursuant to Rule 207 of the Commission's Rules of Practice and Procedure, 18 CFR 385.207 (2009), requesting the Commission to issue a declaratory order ruling that any transmission owner that constructs transmission facilities interconnecting the ERCOT grid to the proposed Tres Amigas Superstation (Tres Amigas) will not be subject to the Commission's jurisdiction as a public utility under the Federal Power Act by virtue of such interconnection, that transmission services over the alternating current (AC) lines from ERCOT to Tres Amigas (and synchronized with the ERCOT grid) will not be subject to the Commission's jurisdiction, and that establishing a new AC to Direct Current interconnection between Tres Amigas and ERCOT will not change the jurisdictional status of any other ERCOT utilities or ERCOT transaction.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 29, 2009.

Kimberly D. Bose,
Secretary.

[FR Doc. E9-29909 Filed 12-15-09; 8:45 am]

BILLING CODE 6717-01-P